DEPARTMENT OF COMMERCE

Foreign-Trade Zones Board

[Docket 20-2003]

Foreign-Trade Zone 191—Palmdale, CA, Area; Application for Expansion

An application has been submitted to the Foreign-Trade Zones (FTZ) Board (the Board) by the City of Palmdale, California, grantee of Foreign-Trade Zone 191, requesting authority to expand FTZ 191 in the Palmdale, California, area, adjacent to the Los Angeles-Long Beach Customs port of entry. The application was submitted pursuant to the provisions of the Foreign-Trade Zones Act, as amended (19 U.S.C. 81a-81u), and the regulations of the Board (15 CFR part 400). It was formally filed on April 16, 2003.

FTZ 191 was approved on January 15, 1993 (Board Order 628, 58 FR 6614, 2/1/93), and expanded on November 4, 2002 (Board Order 1252, 67 FR 69715, 11/19/02). The zone project currently consists of the following ten sites in the Palmdale area: Site 1 (800 acres)—3 parcels within the 1,297 acre Lockheed Martin Aeronautics Industrial Park, Palmdale; Site 2 (87 acres)—Antelope Valley Business Park, Palmdale; Site 3 (30 acres)—Freeway Business Center, Palmdale; Site 4 (70 acres)—Palmdale Trade & Commerce Center, Palmdale; Site 5 (120 acres)—Fairway Business Park, Palmdale; Site 6 (140 acres)—Sierra Gateway Center, Palmdale; Site 7 (15 acres)—Pacific Business Park, Palmdale; Site 8 (20 acres)—Winnell Industrial Park, Palmdale; Site 9 (33 acres)—Park One Industrial Center, Palmdale; and, Site 10 (40 acres)—California City Airport Industrial Park, California City.

The applicant is now requesting authority to expand the general-purpose zone to include an additional site at the Mojave Airport (Proposed Site 11—12 parcels, 91 acres) located at 1434 Flight Line, Mojave, California. The site is owned by the East Kern Airport District and includes airport jet fuel storage/distribution facilities. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street, NW., Washington, DC 20005; or

2. Submissions via the U.S. Postal Service: Foreign-Trade Zones Board, U.S. Department of Commerce, FCB—Suite 4100W, 1401 Constitution Avenue, NW., Washington, DC 20230.

The closing period for their receipt is June 23, 2003. Rebuttal comments in response to material submitted during the foregoing period may be submitted during the subsequent 15-day period (to July 7, 2003).

A copy of the application and accompanying exhibits will be available for public inspection at the Office of the Foreign-Trade Zones Board's Executive Secretary at the first address listed above, and at the City of Palmdale's Office of Economic Development, 38250 N. Sierra Highway, Palmdale, California 93550.

Dated: April 16, 2003.
Dennis Puccinelli,
Executive Secretary.

[FR Doc. 03-9935 Filed 4-21-03; 8:45 am]

BILLING CODE 3510-DS-P